OFFICE OF THE UNITED STATES TRADE REPRESENTATIVE

Trade Policy Staff Committee; Public Comments on Proposed United States-Chile Free Trade Agreement

AGENCY: Office of the United States Trade Representative.

ACTION: Notice of intent to conduct negotiations, initiation of environmental review, and request for comments.

SUMMARY: The United States intends to conduct negotiations with the Republic of Chile to conclude a free trade agreement. The Trade Policy Staff Committee (TPSC) is requesting written comments from the public to assist the United States Trade Representative (USTR) in formulating negotiating objectives for the agreement and to provide advice on how specific goods and services and other matters should be treated under the agreement.

Pursuant to Executive Order 13141 (64 FR 63169), USTR, through the TPSC, is initiating an environmental review of the agreement. The TPSC is also requesting written comments from the public on what should be included in the scope of the environmental review, including the potential environmental effects that might flow from the free trade agreement and the potential implications for environmental laws and regulations. Persons submitting written comments should provide as much detail as possible on the degree to which the subject matter they propose for inclusion in the review may raise significant environmental issues in the context of the negotiation.

DATES: Public comments should be received by noon, January 29, 2001.

ADDRESS: Public comment should be submitted to: Gloria Blue, Executive Secretary, TPSC, Office of the USTR, 600 17th Street, NW., Washington, DC 20508 Attention: U.S.-Chile Free Trade Agreement

FOR FURTHER INFORMATION CONTACT: For procedural questions concerning public comments, contact Gloria Blue, Executive Secretary, TPSC, Office of the USTR, 600 17th Street, NW., Washington, DC 20508 (202) 395-3475. All questions regarding the environmental review should be addressed to Mary Latimer, Deputy Assistant USTR for Environment and Natural Resources, Office of the USTR (202) 395-7320. All other questions regarding the negotiations should be addressed to Susan Cronin, Director for Brazil and the Southern Cone, Office of the Western Hemisphere of the USTR (202) 395-5190.

SUPPLEMENTARY INFORMATION: On November 29, 2000, President Clinton agreed with Chile's President Ricardo Lagos to negotiate a bilateral free trade agreement. In the negotiations, the United States and the Republic of Chile will seek to eliminate duties and commercial barriers to bilateral trade in U.S.-and Chilean-origin goods and also expect to address trade in services, agricultural products, investment, trade-related aspects of intellectual property rights, government procurement, trade-related environmental and labor matters, and other issues. Two-way trade between the United States and Republic of Chile approached $6 billion in 1999. USTR is requesting that the U.S. International Trade Commission conduct a study of the potential economic impacts of the free trade agreement.

USTR, through the TPSC, will perform an environmental review of the agreement pursuant to Executive Order 13141, 64 FR 63169.

Written comments with as much specificity as possible, including data, views and recommendations, are invited on:

(a) General and commodity-specific negotiating objectives for the agreement.

(b) Economic costs and benefits to U.S. producers and consumers of the removal of tariffs and non-tariff barriers to U.S.-Chile trade.

(c) Treatment of specific goods (described by Harmonized System tariff numbers) under the agreement, including comments on (1) product-specific import or export interests or barriers, (2) experience with particular measures that should be addressed in the negotiations, and (3) in the case of articles for which immediate elimination of tariffs is not appropriate, recommended staging schedule for such elimination.

(d) Proposals for service sectors to be addressed in the agreement, existing barriers to trade in those sectors, and economic costs and benefits of removing such barriers.

(e) Relevant trade-related intellectual property rights issues that should be addressed in the negotiations.

(f) Relevant investment issues that should be addressed in the negotiations.

(g) Relevant environmental and labor issues that should be addressed in the negotiations

(h) Relevant government procurement issues that should be addressed in the negotiations.

(i) Possible environmental effects of the proposed agreement and the scope of the U.S. environmental review of the proposed agreement.

Comments identifying as present or potential trade barriers any laws or regulations that are not primarily trade-related should address the economic, political and social objectives of such laws and regulations and the degree to which they discriminate against producers of the other country. Comments on the scope of the environmental review should be as detailed as possible.

Written Comments

Persons submitting written comments should provide twenty (20) copies no later than noon, January 29, 2001, to Gloria Blue at address listed above. If possible, comments should be submitted before this date. Where possible, please supplement written comments with a computer disk of the submission containing as much of the technical details as possible either in spreadsheet or word processing table format, with each tariff line or services sector in a separate cell. The disk should have a label identifying the software used and the submitter.

Written comments submitted in connection with this request, except for information granted “business confidential” status pursuant to 15 CFR 2003.6, will be available for public inspection in the USTR Reading Room (Room 101) at the address noted above. An appointment to review the file may be made by calling Brenda Webb at (202) 395-6186. The Reading Room is open to the public from 10 a.m. to 12 noon, and from 1 p.m. to 4 p.m. Monday through Friday.

Business confidential information, including any information submitted on disks, will be subject to the requirements of 15 CFR 2003.6. Any business confidential material must be clearly marked as such on the cover letter or page and each succeeding page, and must be accompanied by a non-confidential summary thereof. If the submission contains business confidential information, twenty copies of a public version that does not contain confidential information must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Carmen Suro-Bredie,
Chair, Trade Policy Staff Committee.

[FR Doc. 00-31774 Filed 12-13-00; 8:45 am]

BILLING CODE 3190-01-P